SECURITIES AND EXCHANGE COMMISSION

In the Matter of Cincinnati Microwave, Inc., Core Technologies Pennsylvania, Inc., First Central Financial Corp., Imark Technologies, Inc. (n/k/a Pharm Control Ltd.), Molten Metal Technology, Inc., MRS Technology, Inc., Sun Television & Appliances, Inc., and Telegroup, Inc.; File No. 500-1; Order of Suspension of Trading

February 27, 2009.

It appears to the Securities and Exchange Commission that there is a lack of current and accurate information concerning the securities of Cincinnati Microwave, Inc. because it has not filed any periodic reports since the period ended September 29, 1996.

It appears to the Securities and Exchange Commission that there is a lack of current and accurate information concerning the securities of Core Technologies Pennsylvania, Inc. because it has not filed any periodic reports since the period ended September 30, 1998, except for a Form 10-Q it filed for the period ended September 30, 2008.

It appears to the Securities and Exchange Commission that there is a lack of current and accurate information concerning the securities of First Central Financial Corp. because it has not filed any periodic reports since the period ended June 30, 1997.

It appears to the Securities and Exchange Commission that there is a lack of current and accurate information concerning the securities of Imark Technologies, Inc. (n/k/a Pharm Control Ltd.) because it has not filed any periodic reports since the period ended March 31, 1998.

It appears to the Securities and Exchange Commission that there is a lack of current and accurate information concerning the securities of Molten Metal Technology, Inc. because it has not filed any periodic reports since the period ended September 30, 1997.

It appears to the Securities and Exchange Commission that there is a lack of current and accurate information concerning the securities of MRS Technology, Inc. because it has not filed any periodic reports since the period ended September 30, 1998.

It appears to the Securities and Exchange Commission that there is a lack of current and accurate information concerning the securities of Sun Television & Appliances, Inc. because it has not filed any periodic reports since the period ended November 28, 1998.

It appears to the Securities and Exchange Commission that there is a lack of current and accurate information concerning the securities of Telegroup, Inc. because it has not filed any periodic reports since the period ended September 30, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 27, 2009, through 11:59 p.m. EDT on March 12, 2009.

By the Commission.
Elizabeth M. Murphy,
Secretary.

[FR Doc. E9-4594 Filed 2-27-09; 4:15 pm]

BILLING CODE 8011-01-P